DEPARTMENT OF HOUSING AND URBAN DEVELOPMENT

[Docket No. FR-4910-N-24]

Notice of Proposed Information Collection for Public Comment; HOPE VI Programs: Data Collection

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: January 3, 2005.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms and other available documents. (This is not a toll-free number.)

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This notice also lists the following information:

Title of Proposal: HOPE VI Programs: Data Collection.

OMB Control Number: 2577-0208.

Description Of The Need For The Information And Proposed Use: Section 24 of the U.S. Housing Act of 1937, as added by section 535 of the Quality Housing and Work Responsibility Act of 1998 (Pub. L. 105-276, 112 Stat. 2461, approved October 21, 1998) and the HOPE VI Program Reauthorization and Small Community Mainstreet Rejuvenation and Housing Act of 2003 (Pub. L. 108-186, 117 Stat. 2685, approved December 16, 2003) establishes the HOPE VI program for the purpose of making assistance available on a competitive basis to public housing agencies (PHAs) in improving the living environment for public housing residents of severely distressed public housing projects through the demolition, rehabilitation, reconfiguration, or replacement of severely distressed public housing projects (or portions thereof); in revitalizing areas in which public housing sites are located, and contributing to the improvement of the surrounding community; in providing housing that avoids or decreases the concentration of very low-income families; and in building sustainable communities. In addition, the HOPE VI Program Reauthorization and Small Community Mainstreet Rejuvenation and Housing Act of 2003 adds to the HOPE VI program the purpose of making assistance available on a competitive basis to small units of local government to develop affordable housing as part of Main Street rejuvenation projects.

Agency Form Number: HUD-52774, HUD-52780, HUD-52785, HUD-52787, HUD-52789, HUD-52790, HUD-52797, HUD-52799, HUD-52800, HUD-52825-A, HUD-52860-A, HUD-52861, HUD-53001, and HUD-53001-A.

Members Of Affected Public: Public Housing Agencies, Units of local government with populations of less than 50,000.

Estimation of the total number of hours needed to prepare the information collection including number of respondents:

| Respondents | Annual responses | Total responses | Burden per | Total burden hours
Revitalization Application, including 52860-A, 52800, 52825-A, 52799, 52797, 52785, 52787 | 80 | 1 | 80 | 190 | 15,200
Demolition Application, including 52790, 52780 | 34 | 1 | 34 | 40 | 1,360
Main Street Application, including 52861 | 50 | 1 | 50 | 50 | 2,500
On-line Quarterly Reporting | 190 | 4 | 760 | 20 | 15,200
52825-A Budget updating | 190 | 2 | 380 | 3 | 1,140
52798 Supportive Srvcs Workplan | 25 | 1 | 25 | 15 | 375
52774 Relocation Plan Guide | 25 | 1 | 25 | 15 | 375
53001-A Cost Certificate | 38 | 1 | 38 | 2 | 76
Total Burden |  |  |  |  | 36,226

Status of the Proposed Information Collection: Removal of HOPE VI Neighborhood Networks Notice of Funds Availability (NOFA) and related forms. Addition of HOPE VI Main Street NOFA and related form.

Authority: Section 3506 of the Paperwork Reduction Act of 1995, 44 U.S.C. Chapter 35, as amended.

Dated: October 27, 2004.
Paula O. Blunt,
General Deputy Assistant Secretary for Public and Indian Housing.

[FR Doc. E4-2981 Filed 11-1-04; 8:45 am]

BILLING CODE 4210-33-P